CHEMICAL SAFETY AND HAZARD INVESTIGATION BOARD

Sunshine Act Meeting

In connection with its investigation into the cause of a benzoyl peroxide explosion and fire that occurred on January 2, 2003, at the Catalyst Systems facility in Gnadenhutten, Ohio, the United States Chemical Safety and Hazard Investigation Board announces that it will convene a Public Meeting beginning at 2 pm local time on October 29, 2003, at the George Washington University Conference Center's Third Floor Amphitheater, 800 21st Street, NW., Washington, DC.

At this meeting CSB staff will present to the Board a case study of this incident, which examines three key issues: Hazards of benzoly peroxide, reactive chemical hazards, and process safety management systems. The Board will also conduct other business; the Chief Operating Officer will provide an update on current CSB investigations, the status of the CSB FY '04 budget, and discuss the revision to the CSB's overtime policy. Finally, the General Counsel will present a proposed rule outlining the CSB organization.

After the staff presentation, the Board will allow time for public comment. Following the conclusion of the public comment period, the Board will consider whether to vote to approve the final case study.

All staff presentations are preliminary and are intended solely to allow the Board to consider in a public forum the issues and factors involved in this case. No factual analyses, conclusions or findings should be considered final. Only after the Board has considered the staff presentation and approved the staff report will there be an approved final record of this incident.

The meeting will be open to the public. Please notify CSB if a translator or interpreter is needed, at least 5 business days prior to the public meeting. For more information, please contact the Chemical Safety and Hazard Investigation Board at (202) 261-7600, or visit our Web site at: www.csb.gov.

Ray Porfiri,
Deputy General Counsel.

[FR Doc. 03-26379 Filed 10-15-03; 11:14 am]

BILLING CODE 6350-01-U